DEPARTMENT OF AGRICULTURE

Submission for OMB Review; Comment Request

January 4, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Marketing Order Online System (MOLS) Survey.

OMB Control Number: 0581-NEW.

Summary of Collection: Under Section 608(e) of the Agricultural Marketing Agreement Act of 1937, as amended (7 U.S.C. 601-674), certain imported fruit, vegetable and specialty crop commodities must meet the same quality standards applied to domestically-produced commodities when regulated by Federal marketing orders. Reports are required under import regulations 7 CFR part 944.350 (fruits); 980.501 (vegetables) and 999.500 (specialty crops). Using the Marketing Order Online System (MOLS), importers and receivers can search, review and submit the required form FV-6 “Importer's Exempt Commodity Form” prior to importation. AMS has developed a customer satisfaction survey, form FV-660, to gather specific information from respondents currently utilizing the MOLS.

Need and Use of the Information: The survey will collect information on a voluntary basis, and the identities will be kept confidential. The type of information being requested on the survey includes, among other information, customer expectations of the overall quality, performance, attractiveness and features of the online system, customer experience in requesting a new certificate, editing a pending certificate, ease in accessing, entering data or submitting the information online and experience or problems when printing. A cover memo will accompany the survey explaining the purpose and providing information to access the survey through an Internet link. Results of the survey will allow AMS to better serve the fruit, vegetable and specialty crop importing and handling community.

Description of Respondents: Business or other for-profit.

Number of Respondents: 200.

Frequency of Responses: Reporting: One time.

Total Burden Hours: 50.

Charlene Parker,
Departmental Information Collection Clearance Officer.

[FR Doc. 2010-46 Filed 1-7-10; 8:45 am]

BILLING CODE 3410-02-P